DEPARTMENT OF DEFENSE

Office of the Secretary

[Docket ID: DoD-2024-OS-0115]

Proposed Collection; Comment Request

AGENCY: Office of the Under Secretary for Policy (OUSD(P)), Department of Defense (DoD).

ACTION: 60-Day information collection notice.

SUMMARY: In compliance with the Paperwork Reduction Act of 1995, the Office of Special Coordinator for Afghanistan (OSCA), announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by January 21, 2025.

ADDRESSES: You may submit comments, identified by docket number and title, by any of the following methods:

Federal eRulemaking Portal: https://www.regulations.gov. Follow the instructions for submitting comments.

Mail: Department of Defense, Office of the Assistant to the Secretary of Defense for Privacy, Civil Liberties, and Transparency, 4800 Mark Center Drive, Mailbox #24, Suite 05F16, Alexandria, VA 22350-1700.

Instructions: All submissions received must include the agency name, docket number and title for this Federal Register document. The general policy for comments and other submissions from members of the public is to make these submissions available for public viewing on the internet at https://www.regulations.gov as they are received without change, including any personal identifiers or contact information.

FOR FURTHER INFORMATION CONTACT: To request more information on this proposed information collection or to obtain a copy of the proposal and associated collection instruments, please write to: Office of Special Coordinator for Afghanistan (OSCA), 2000 Defense Pentagon, Washington, DC 20301-2000, CAPT Louis Carl, 703-614-0797.

SUPPLEMENTARY INFORMATION:

Title; Associated Form; and OMB Number: SMARTSHEET Cloud-Based Platform, DoD/DISA Impact Level 4; OMB Control Number 0704-RMPF.

Needs and Uses: This collection is needed to validate and relocate DoD and U.S. military personnel and their families. The information collected is to be used as needed by authorized personnel to validate to the State Department that U.S. military personnel and DoD civilian employees are eligible for this accommodation and will be passed to State Department for processing for resettlement to the United States.

Affected Public: U.S. military personnel, DoD civilian employees, and their family members.

Annual Burden Hours: 128.

Number of Respondents: 32.

Responses per Respondent: 2.

Annual Responses: 64.

Average Burden per Response: 2 hours.

Frequency: As required.

Dated: November 13, 2024.
Aaron T. Siegel,
Alternate OSD Federal Register Liaison Officer, Department of Defense.

[FR Doc. 2024-26857 Filed 11-18-24; 8:45 am]

BILLING CODE 6001-FR-P